ENVIRONMENTAL PROTECTION AGENCY

[ER-FRL-8583-7]

Environmental Impact Statements;

Notice of Availability

Responsible Agency: Office of Federal Activities, General Information (202) 564-7167 or http://www.epa.gov/compliance/nepa/.

Weekly receipt of Environmental Impact Statements

Filed 07/07/2008 through 07/11/2008

Pursuant to 40 CFR 1506.9.

EIS No. 20080269, Final Supplement, FHW, AR, US 67 Construction, U.S. 67/167 to I-40 West/I-430 Interchange around the North Little Rock Metropolitan Area, Funding, Pulaski County, AR, Wait Period Ends: 08/18/2008, Contact: Randal Looney 501-324-5625.

EIS No. 20080270, Final EIS, NSF, 00, PROGRAMMATIC—Integrated Ocean Drilling Program—United States Implementing Organizations Participation in the Development of Scientific Ocean Drilling, IODP-USIO, Wait Period Ends: 08/18/2008, Contact: James F. Allen 703-292-8581.

EIS No. 20080271, Final EIS, BLM, UT, Kanab Field Office Resource Management Plan, Implementation, Portions of Kane and Garfield Counties, UT, Wait Period Ends: 08/18/2008, Contact: Keith Rigtrup 435-644-4600.

EIS No. 20080272, Third Draft Supplement, COE, CA, Port of Los Angeles Channel Deepening Project, To Dispose of Approximately 3.0 Million Cubic Yards of Dredge Material Required to Complete the Channel Deepening Project and to Beneficially Reuse the Dredge Material with the Port of Los Angeles, Los Angeles County, CA, Comment Period Ends: 09/02/2008, Contact: Joy Jaiswal 213-453-3851.

EIS No. 20080273, Final EIS, FRC, FL, Floridian Natural Gas Storage Project, Construction and Operation, Liquefied Natural Gas (LNG) Storage and Natural Gas Transmission Facilities, Martin County, FL, Wait Period Ends: 08/18/2008, Contact: Patricia Schaub 1-866-208-3372.

EIS No. 20080274, Final EIS, CGD, FL, Calypso Liquefied Natural Gas (LNG) Deepwater Port License Application, Proposes to Own, Construct and Operate a Deepwater Port, Outer Continental Shelf (OCS) in the OCS NG 17-06 (Bahamas) Lease Area, 8 to 10 miles off the East Coast of Florida to the Northeast of Port Everglades, FL, Wait Period Ends: 09/02/2008, Contact: Lt. Hannah Kim 202-372-1438.

EIS No. 20080275, Final EIS, NOA, WA, ADOPTION—Fish Passage and Aquatic Habitat Restoration at Hemlock Dam, Implementation, Gifford Pinchot National Forest, Mount Adams District, Skamania County, WA, Contact: Christopher Doley 301-713-0174. US DOC/NOA adopted the U.S. DOA/AFS, Final EIS 20050451 filed 10/24/2005. NOA was a cooperating agency on the project. Recirculation on the document is not necessary under 1506.3(b) of the CEQ Regulations.

EIS No. 20080276, Draft EIS, FTA, CO, Gold Line Corridor Project, To Implement Fixed-Guideway Transit Service within the Golden Line Study area between Denver Union Station (DUS) and Ward Road in Wheat Ridge, Denver, Arvada, Wheat Ridge, Adam and Jefferson Counties, CO, Comment Period Ends: 09/02/2008, Contact: David Beckhouse 720-963-3306.

EIS No. 20080277, Final EIS, SFW, TX, Texas Chenier Plain National Wildlife Refuge Complex, Development of a 15-Year Management Plan (Comprehensive Conservation Plan) for Refuge Complex, and Expansion of the Approval Land Acquisition Boundaries (Land Protection Plan) for the Four Refuges: Moody, Anahuac, McFaddin and Texas Point National Wildlife Refuges, Chambers, Jefferson and Galveston Counties, TX, Wait Period Ends: 08/18/2008, Contact: Stephanie Nash 703-358-2183.

EIS No. 20080278, Final EIS, NPS, WA, Mountain Lake Fisheries Management Plan for the North Cascades National Service Complex, Implementation, North Cascades National Park, Whatcom, Skagit and Chelan Counties, WA, Wait Period Ends: 08/18/2008, Contact: Alan Schmierer 510-817-1441.

Amended Notices

EIS No. 20080167, Draft EIS, COE, CO, Northern Integrated Supply Project, Construction and Operation of a Regional Water Supply to Serve the Current and Future Water Needs of 12 Towns and Water Districts, Approval of Section 404 Permit Application, Northern Colorado Water Conservancy District, Larimer and Weld Counties, CO, Comment Period Ends: 07/30/2008, Contact: Chandler J. Peter 303-979-4120. Revision of FR Notice Published 05/09/2008: Extending the Comment Period from 07/30/2008 to 09/13/2008.

EIS No. 20080264, Second Final Supplement, DOE, NV, Geologic Repository for the Disposal of Spent Nuclear Fuel and High-Level Radioactive Waste at Yucca Mountain, Nye County, Nevada—Nevada Rail Transportation Corridor (DOE/EIS-0250F-S2), Wait Period Ends: 08/11/2008, Contact: Dr. Jane R. Summerson 702-794-1493. Revision of FR Notice Published 07/11/2008: Correction to Title.

EIS No. 20080265, Second Final EIS (Tiering), DOE, NV, Rail Alignment for the Construction and Operation of a Railroad in Nevada to a Geologic Repository (DOE/EIS-0369) at Yucca Mountain, Nye County, NV, Wait Period Ends: 08/11/2008, Contact: Dr. Jane R. Summerson 702-794-1493. Revision of FR Notice Published 07/11/2008: Correction to Title.

EIS No. 20080266, Final Supplement, DOE, NV, Geologic Repository for the Disposal of Spent Nuclear Fuel and High-Level Radioactive Waste, Construction, Operation, Monitoring and Eventually Closing a Geologic Repository DOE/EIS-0250F-S1D) at Yucca Mountain, Nye County, NV, Wait Period Ends: 08/11/2008, Contact: Dr. Jane R. Summerson 702-794-1493. Revision FR Notice Published 07/11/2008: Correction to Title.

Dated: July 15, 2008.
Robert W. Hargrove,
Director, NEPA Compliance Division, Office of Federal Activities.

[FR Doc. E8-16473 Filed 7-17-08; 8:45 am]

BILLING CODE 6560-50-P